DEPARTMENT OF ENERGY

Federal Energy Regulatory Commission

Combined Notice of Filings #1

December 29, 2010.

Take notice that the Commission received the following electric rate filings:

Docket Numbers: ER98-2329-008.

Applicants: Central Vermont Public Service Corp.

Description: Triennial Market Power Analysis of Central Vermont Public Service Corporation.

Filed Date: 12/29/2010.

Accession Number: 20101229-5115.

Comment Date: 5 p.m. Eastern Time on Monday, February 28, 2011.

Docket Numbers: ER01-989-008.

Applicants: Green Mountain Power Corporation.

Description: Updated Market Power Analysis of Green Mountain Power Corporation.

Filed Date: 12/29/2010.

Accession Number: 20101229-5126.

Comment Date: 5 p.m. Eastern Time on Monday, February 28, 2011.

Docket Numbers: ER10-2536-001.

Applicants: Westar Energy, Inc.

Description: Westar Energy, Inc. submits tariff filing per 35.17(b): Amendment, City of McPherson, KS, BPU, Addendum No. 5 to be effective 12/31/9998.

Filed Date: 12/29/2010.

Accession Number: 20101229-5001.

Comment Date: 5 p.m. Eastern Time on Wednesday, January 19, 2011.

Docket Numbers: ER10-2680-002.

Applicants: Puget Sound Energy, Inc.

Description: Puget Sound Energy, Inc. submits tariff filing per 35: OATT Section 4.2 and Attachment C 12/28/2010 to be effective 4/1/2011.

Filed Date: 12/28/2010.

Accession Number: 20101228-5090.

Comment Date: 5 p.m. Eastern Time on Tuesday, January 18, 2011.

Docket Numbers: ER10-2994-002; ER11-2196-001; ER11-2462-001; ER11-2463-001; ER11-2464-001; ER11-2465-001; ER11-2466-001; ER11-2467-001; ER11-2468-001; ER11-2469-001; ER11-2470-001; ER11-2471-001; ER11-2472-001; ER11-2473-001; ER11-2474-001; ER11-2475-001.

Applicants: Klondike Wind Power III LLC, Big Horn Wind Project LLC, Colorado Green Holdings LLC, Klamath Energy LLC, Klamath Generation LLC, Klondike Wind Power LLC, Twin Buttes Wind LLC, Pebble Springs Wind LLC, Hay Canyon Wind LLC, Star Point Wind Project LLC, Juniper Canyon Wind Power LLC, Big Horn II Wind Project LLC, Klondike Wind Power II LLC, Leaning Juniper Wind Power II LLC, Iberdrola Renewables, Inc., San Luis Solar LLC.

Description: Triennial Market Power Analysis of the IRI MBR Companies for the Northwest Region.

Filed Date: 12/29/2010.

Accession Number: 20101229-5123.

Comment Date: 5 p.m. Eastern Time on Monday, February 28, 2011.

Docket Numbers: ER11-2481-001; ER10-2688-002; ER10-2689-002; ER11-2478-001; ER11-2479-001; ER11-2480-001.

Applicants: Monongahela Power Company; The Potomac Edison Company; West Penn Power Company; Buchanan Generation, LLC; Allegheny Energy Supply Company, LLC; Green Valley Hydro, LLC.

Description: Triennial Market Power Analysis of the Allegheny Companies.

Filed Date: 12/29/2010.

Accession Number: 20101229-5116.

Comment Date: 5 p.m. Eastern Time on Monday, February 28, 2011.

Docket Numbers: ER11-2539-001; ER11-2540-001; ER11-2542-001.

Applicants: Plains End II, LLC, Plains End, LLC, Rathdrum Power, LLC

Description: Plains End, LLC, et al. Updated Market Power Analysis for the NW Region.

Filed Date: 12/28/2010.

Accession Number: 20101228-5167.

Comment Date: 5 p.m. Eastern Time on Monday, February 28, 2011.

Docket Numbers: ER11-2544-000.

Applicants: New York Independent System Operator, Inc.

Description: New York Independent System Operator, Inc. submits tariff filing per 35.13(a)(2)(iii: NYISO Tariff Revisions re: Market Power Mitigation Measures to be effective 2/28/2011.

Filed Date: 12/28/2010.

Accession Number: 20101228-5124.

Comment Date: 5 p.m. Eastern Time on Tuesday, January 18, 2011.

Docket Numbers: ER11-2545-000.

Applicants: Frederickson Power L.P.

Description: Frederickson Power L.P. submits tariff filing per 35: Frederickson Power L.P. Triennial Market Power Update to be effective 12/29/2010.

Filed Date: 12/28/2010.

Accession Number: 20101228-5141.

Comment Date: 5 p.m. Eastern Time on Monday, February 28, 2011.

Docket Numbers: ER11-2546-000.

Applicants: Manchief Power Company LLC.

Description: Manchief Power Company LLC submits tariff filing per 35: Manchief Power Company LLC Triennial Market Power Update to be effective 12/29/2010.

Filed Date: 12/28/2010.

Accession Number: 20101228-5142.

Comment Date: 5 p.m. Eastern Time on Monday, February 28, 2011.

Docket Numbers: ER11-2547-000.

Applicants: New York Independent System Operator, Inc.

Description: New York Independent System Operator, Inc. submits tariff filing per 35.13(a)(2)(iii: NYISO 205 Filing Tariff Revision EITC to be effective 3/15/2011.

Filed Date: 12/28/2010.

Accession Number: 20101228-5145.

Comment Date: 5 p.m. Eastern Time on Tuesday, January 18, 2011.

Docket Numbers: ER11-2548-000.

Applicants: San Diego Gas & Electric Company.

Description: San Diego Gas & Electric Company submits tariff filing per 35.13(a)(2)(iii: SGIP & LGIP Revisions to SDG&E's Open Access Tariff to be effective 1/20/2011.

Filed Date: 12/28/2010.

Accession Number: 20101228-5146.

Comment Date: 5 p.m. Eastern Time on Tuesday, January 18, 2011.

Docket Numbers: ER11-2549-000.

Applicants: Granite State Electric Company.

Description: Granite State Electric Company submits tariff filing per 35.37: 2010 Market Power Analysis and Order 697-A Updates to be effective 12/30/2010.

Filed Date: 12/29/2010.

Accession Number: 20101229-5043.

Comment Date: 5 p.m. Eastern Time on Monday, February 28, 2011.

Docket Numbers: ER11-2550-000.

Applicants: Midwest Independent Transmission System Operator, Inc.

Description: Midwest Independent Transmission System Operator, Inc. submits tariff filing per 35.13(a)(2)(iii: G263 LGIA Filing to be effective 12/30/2010.

Filed Date: 12/29/2010.

Accession Number: 20101229-5044.

Comment Date: 5 p.m. Eastern Time on Wednesday, January 19, 2011.

Docket Numbers: ER11-2551-000.

Applicants: Arizona Public Service Company.

Description: Arizona Public Service Company submits tariff filing per 35.13(a)(2)(iii: Amendment to Service Agreement No. 51741 between APS and Gila River Power, L.P. to be effective 11/30/2010.

Filed Date: 12/29/2010.

Accession Number: 20101229-5045.

Comment Date: 5 p.m. Eastern Time on Wednesday, January 19, 2011.

Docket Numbers: ER11-2552-000.

Applicants: Massachusetts Electric Company.

Description: Massachusetts Electric Company submits tariff filing per 35.37: 2010 Market Power Analysis and Order 697-A Updates to be effective 12/30/2010.

Filed Date: 12/29/2010.

Accession Number: 20101229-5046.

Comment Date: 5 p.m. Eastern Time on Monday, February 28, 2011.

Docket Numbers: ER11-2553-000.

Applicants: Arizona Public Service Company.

Description: Arizona Public Service Company submits tariff filing per 35.13(a)(2)(iii: Service Agreement No. 308 to be effective 11/30/2010.

Filed Date: 12/29/2010.

Accession Number: 20101229-5047.

Comment Date: 5 p.m. Eastern Time on Wednesday, January 19, 2011.

Docket Numbers: ER11-2554-000.

Applicants: The Narragansett Electric Company.

Description: The Narragansett Electric Company submits tariff filing per 35.37: 2010 Market Power Analysis and Order 697-A Updates to be effective 12/30/2010.1150

Filed Date: 12/29/2010.

Accession Number: 20101229-5048.

Comment Date: 5 p.m. Eastern Time on Monday, February 28, 2011.

Docket Numbers: ER11-2555-000.

Applicants: National Grid Glenwood Energy Center LLC.

Description: National Grid Glenwood Energy Center LLC submits tariff filing per 35.37: 2010 Market Power Analysis and Order 697-A Updates to be effective 12/30/2010.

Filed Date: 12/29/2010.

Accession Number: 20101229-5062.

Comment Date: 5 p.m. Eastern Time on Monday, February 28, 2011.

Docket Numbers: ER11-2556-000.

Applicants: National Grid Port Jefferson.

Description: National Grid Port Jefferson submits tariff filing per 35.37: 2010 Market Power Analysis and Order 697-A Updates to be effective 12/30/2010.

Filed Date: 12/29/2010.

Accession Number: 20101229-5064.

Comment Date: 5 p.m. Eastern Time on Monday, February 28, 2011.

Docket Numbers: ER11-2557-000.

Applicants: New England Power Company.

Description: New England Power Company submits tariff filing per 35.37: 2010 Market Power Analysis and Order 697-A Updates to be effective 12/30/2010.

Filed Date: 12/29/2010.

Accession Number: 20101229-5065.

Comment Date: 5 p.m. Eastern Time on Monday, February 28, 2011.

Docket Numbers: ER11-2558-000.

Applicants: Niagara Mohawk Power Corporation.

Description: Niagara Mohawk Power Corporation submits tariff filing per 35.37: 2010 Market Power Analysis and Order 697-A Updates to be effective 12/30/2010.

Filed Date: 12/29/2010.

Accession Number: 20101229-5066.

Comment Date: 5 p.m. Eastern Time on Monday, February 28, 2011.

Docket Numbers: ER11-2559-000.

Applicants: Rock River I, LLC.

Description: Rock River I, LLC submits tariff filing per 35.13(a)(2)(iii: Revised MBR Tariff to be effective 2/27/2011.

Filed Date: 12/29/2010.

Accession Number: 20101229-5067.

Comment Date: 5 p.m. Eastern Time on Wednesday, January 19, 2011.

Docket Numbers: ER11-2559-001.

Applicants: Rock River I, LLC.

Description: Rock River I, LLC, Updated Market Power Analysis for the Northwest Region.

Filed Date: 12/29/2010.

Accession Number: 20101229-5125.

Comment Date: 5 p.m. Eastern Time on Monday, February 28, 2011.

Docket Numbers: ER11-2560-000.

Applicants: Entergy Arkansas, Inc.

Description: Entergy Arkansas, Inc. submits tariff filing per 35.13(a)(2)(iii: EAI PCITSA Amendment to be effective 3/1/2011.

Filed Date: 12/29/2010.

Accession Number: 20101229-5068.

Comment Date: 5 p.m. Eastern Time on Wednesday, January 19, 2011.

Docket Numbers: ER11-2562-000.

Applicants: Entergy Gulf States Louisiana, L.L.C.

Description: Entergy Gulf States Louisiana, L.L.C. submits tariff filing per 35.13(a)(2)(iii: Amended River Bend MSS-4 Agreement to be effective 12/29/2010.

Filed Date: 12/29/2010.

Accession Number: 20101229-5110.

Comment Date: 5 p.m. Eastern Time on Wednesday, January 19, 2011.

Docket Numbers: ER11-2563-000.

Applicants: New York State Electric & Gas Corporation.

Description: New York State Electric & Gas Corporation submits tariff filing per 35.37: NYSEG MBR Tariff Revisions Dec. 2010 to be effective 12/29/2010.

Filed Date: 12/29/2010.

Accession Number: 20101229-5120.

Comment Date: 5 p.m. Eastern Time on Wednesday, January 19, 2011.

Docket Numbers: ER11-2564-000.

Applicants: Rochester Gas and Electric Corporation.

Description: Rochester Gas and Electric Corporation submits tariff filing per 35.37: RGE MBR Tariff Revisions Dec. 2010 to be effective 12/29/2010.

Filed Date: 12/29/2010.

Accession Number: 20101229-5121.

Comment Date: 5 p.m. Eastern Time on Wednesday, January 19, 2011.

Docket Numbers: ER11-2565-000.

Applicants: Midwest Independent Transmission System Operator, Inc.

Description: Midwest Independent Transmission System Operator, Inc. submits tariff filing per 35: 12-29-10 Attachment GG Compliance Filing—Final to be effective 12/5/2010.

Filed Date: 12/29/2010.

Accession Number: 20101229-5122.

Comment Date: 5 p.m. Eastern Time on Wednesday, January 19, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-182 Filed 1-7-11; 8:45 am]

BILLING CODE 6717-01-P